DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Wave 3 Survey of Youth for the Federal Evaluation of Initiatives Funded Under Section 510 of the Maternal and Child Health Block Grant Programs—The Personal Responsibility and Work Opportunity Reconciliation Act established Section 510 of the Maternal and Child Health Block Grant Program, the purpose of which is to support state efforts supporting abstinence only education. This data collection is needed to fulfill the requirements for a Congressionally mandated evaluation of the program. Respondents: Individuals; Number of Respondents: 2,872; Average Burden per Response: 5 hours; Total Burden: 1,436 hours. OMB Desk Officer: Allison Herron Eydt.

Copies of the information collection packages listed above can be obtained by calling the OS Reports Clearance Officer on (202) 690-6207. Written comments and recommendations for the proposed information collection should be sent directly to the OMB desk officer designated above at the following address:

Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC 20201. Written comments should be received within 30 days of this notice.

Dated: February 26, 2002.
Kerry Weems,
Acting, Deputy Assistant Secretary, Budget.

[FR Doc. 02-5510 Filed 3-7-02; 8:45 am]

BILLING CODE 4154-05-M